INTERNATIONAL TRADE COMMISSION

[Investigation Nos. 701-TA-442-443 and 731-TA-1095-1097 (Final)]

Certain Lined Paper School Supplies From China, India, and Indonesia

Determination

On the basis of the record ¹ developed in the subject investigations, the United States International Trade Commission (Commission) determines, pursuant to sections 705(b) and 735(b) of the Tariff Act of 1930 (19 U.S.C. 1671d(b) and 1673d(b)) (the Act), that an industry in the United States is materially injured by reason of imports from India and Indonesia of certain lined paper school supplies that have been found by the Department of Commerce (Commerce) to be subsidized by the Governments of India and Indonesia, and by reason of imports from China, India, and Indonesia of certain lined paper school supplies that have been found by Commerce to be sold in the United States at less than fair value (LTFV).² The Commission finds that critical circumstances do not exist with respect to subject imports from China and Indonesia.

¹ The record is defined in sec. 207.2(f) of the Commission's Rules of Practice and Procedure (19 CFR 207.2(f)).

² Chairman Daniel R. Pearson and Commissioners Jennifer A. Hillman and Deanna Tanner Okun dissented, determining that an industry in the United States is threatened with material injury by reason of subject imports from China, but is neither materially injured nor threatened with material injury by reason of subject imports from India and Indonesia.

Background

The Commission instituted these investigations effective September 9, 2005, following receipt of a petition filed with the Commission and Commerce by MeadWestvaco Corp., Dayton, OH; Norcom, Inc., Norcross, GA; and Top Flight, Inc., Chattanooga, TN (collectively, the Association of American School Paper Suppliers). The final phase of the investigations was scheduled by the Commission following notification of a preliminary determination by Commerce that imports of certain lined paper school supplies from Indonesia were being subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register of April 7, 2006 (71 FR 17914). On May 30, 2006, the Commission published notice of a revised schedule and public hearing date (71 FR 30694). The hearing was held in Washington, DC, on July 25, 2006, and all persons who requested the opportunity were permitted to appear in person or by counsel.

The Commission transmitted its determinations in these investigations to the Secretary of Commerce on September 21, 2006. The views of the Commission are contained in USITC Publication 3884 (September 2006), entitled Certain Lined Paper School Supplies From China, India, and Indonesia: Investigation Nos. 701-TA-442-443 and 731-TA-1095-1097 (Final).

Issued: September 20, 2006.
By order of the Commission.
Marilyn R. Abbott,
Secretary to the Commission.

[FR Doc. 06-8171 Filed 9-22-06; 8:45 am]

BILLING CODE 7020-02-P